ENVIRONMENTAL PROTECTION AGENCY

40 CFR Part 70

[IN004b; FRL-7212-5]

Clean Air Act Final Approval of Operating Permit Program Revisions; Indiana

AGENCY: Environmental Protection Agency (EPA).

ACTION: Proposed rule.

SUMMARY: In this action, EPA is proposing to approve a revision to the Indiana title V operating permit program. EPA granted full approval to Indiana's operating permit program effective November 30, 2001. At that time, EPA also issued a notice of program deficiency pursuant to 40 CFR 70.10 in which EPA identified problems with Indiana's program and a timeframe within which Indiana had to correct the problems. Pursuant to 40 CFR 70.4(i)(2), Indiana submitted revisions to its operating permit program on February 7, 2002.

In a separate action in the “Rules and Regulations” section of this Federal Register, EPA is approving the Indiana title V operating permit program revisions as a direct final rule without prior proposal because EPA views this as a noncontroversial amendment and anticipates no adverse comment. The EPA has explained reasons for this approval in the preamble to the direct final rule. If EPA receives no relevant adverse comments, EPA will take no further action on this proposed rule. If EPA receives relevant adverse comment, EPA will withdraw the direct final rule and it will not take effect. In that event, EPA will address all relevant public comments in a subsequent final rule based on this proposed rule. In either event, EPA will not institute a second comment period on this action. Any parties interested in commenting must do so at this time.

DATES: Written comments must be received by June 17, 2002.

ADDRESSES: Written comments should be addressed to Ms. Pamela Blakley, Chief, Permits and Grants Section (IL/IN/OH), Attention: Mr. Sam Portanova, at the EPA Region 5 office listed below. Copies of documents relevant to this action are available for public inspection during normal business hours at the following location: Permits and Grants Section (IL/IN/OH), Air Programs Branch, (AR-18J), U.S. Environmental Protection Agency, Region 5, 77 West Jackson Boulevard, Chicago, Illinois, 60604. Anyone wanting to examine these documents should make an appointment with the appropriate office at least two working days in advance.

FOR FURTHER INFORMATION CONTACT: Sam Portanova, Environmental Engineer, Permits and Grants Section (IL/IN/OH), Air Programs Branch, (AR-18J), U.S. Environmental Protection Agency, Region 5, 77 West Jackson Boulevard, Chicago, Illinois, 60604, telephone (312) 886-3189.

SUPPLEMENTARY INFORMATION: For additional information, see the Direct Final Rule which is published in the Rules and Regulations section of this Federal Register.

Authority: 42 U.S.C. 7401 et seq.

Dated: May 3, 2002.
David A. Ullrich,
Acting Regional Administrator, Region 5.

[FR Doc. 02-12282 Filed 5-15-02; 8:45 am]

BILLING CODE 6560-50-P